SECURITIES AND EXCHANGE COMMISSION

Submission for OMB Review; Comment Request

Upon Written Request, Copies Available From: Securities and Exchange Commission, Office of Filings and Information Services, Washington, DC 20549.

Extensions:

Rule 701; OMB Control No. 3235-0522; SEC File No. 270-306. Regulations 14D and 14E; OMB Control No. 3235-0102; SEC File No. 270-114. Schedule 14D-9.

Notice is hereby given that pursuant to the Paperwork Reduction Act of 1995 (44 U.S.C. 3501 et seq.) the Securities and Exchange Commission (“Commission”) has submitted to the Office of Management and Budget requests for extension of the previously approved collections of information discussed below.

Securities Act Rule 701 requires issuers conducting employee benefit plan offerings in excess of $5 million in reliance on the rule to provide the employees covered by the plan with risk and financial statement disclosures. The purpose of Rule 701 is to ensure that a basic level of information is available to employees and others when substantial amounts of securities are issued in compensatory arrangements. Information provided under Rule 701 is mandatory. Approximately 300 companies annually rely on the Rule 701 exemption. The Rule 701 disclosure takes an estimated 2 hours to prepare for a total annual burden of 600 hours. We estimate that 25% of the 600 total burden hours (150 reporting burden hours) is prepared by the company.

Regulations 14D and 14E and related Schedule 14D-9 require information important to security holders in deciding how to respond to tender offers. This information is made available to the public. Information provided on Schedule 14D-9 is mandatory. Approximately 360 companies annually file Schedule 14D-9. The Schedule takes an estimated 258 hours to prepare for a total annual burden of 92,880 hours. We estimate that 25% of the 92,880 total burden hours (23,220 reporting burden hours) is prepared by the company.

An agency may not conduct or sponsor, and a person is not required to respond to, a collection of information unless it displays a currently valid control number.

Written comments regarding the above information should be directed to the following persons: (i) Desk Officer for the Securities and Exchange Commission, Office of Information and Regulatory Affairs, Office of Management and Budget, Room 10102, New Executive Office Building, Washington, DC 20503 or send an e-mail to David_Rostker@omb.eop.gov; and (ii) R. Corey Booth, Director/Chief Information Officer, Office of Information Technology, Securities and Exchange Commission, 450 Fifth Street, NW., Washington, DC 20549. Comments must be submitted to OMB within 30 days of this notice.

Dated: March 7, 2005.
Margaret H. McFarland,
Deputy Secretary.

[FR Doc. E5-1234 Filed 3-21-05; 8:45 am]

BILLING CODE 8010-01-P